DEPARTMENT OF THE INTERIOR

National Park Service

[NPS-WASO-NAGPRA-NPS0036123; PPWOCRADN0-PCU00RP14.R50000]

Notice of Inventory Completion: High Desert Museum, Bend, OR

AGENCY: National Park Service, Interior.

ACTION: Notice.

SUMMARY: In accordance with the Native American Graves Protection and Repatriation Act (NAGPRA), the High Desert Museum has completed an inventory of human remains and associated funerary objects and has determined that there is a cultural affiliation between the human remains and associated funerary objects and Indian Tribes or Native Hawaiian organizations in this notice. The human remains and associated funerary objects were removed from Wasco County, OR, and Klickitat County, WA.

DATES: Repatriation of the human remains and associated funerary objects in this notice may occur on or after August 7, 2023.

ADDRESSES: Michelle Seiler, High Desert Museum, 59800 South Hwy. 97, Bend, OR 97702, telephone (541) 382-4754 Ext. 376, email michelle@highdesertmuseum.org.

SUPPLEMENTARY INFORMATION: This notice is published as part of the National Park Service's administrative responsibilities under NAGPRA. The determinations in this notice are the sole responsibility of High Desert Museum. The National Park Service is not responsible for the determinations in this notice. Additional information on the determinations in this notice, including the results of consultation, can be found in the inventory or related records held by High Desert Museum.

Description

Human remains representing, at minimum, one individual were removed from Wasco County, OR. The human remains were removed from Memaloose Island by Sue Frewing, who accompanied her father there as a child. According to Frewing, at that time, the entire island was fully accessible by boat, as The Dalles Dam had not yet been constructed. On March 31, 1986, the human remains were donated to the High Desert Museum by Sue Frewing. The one associated funerary object is one lot consisting of loose beads, buttons, shells, and sand.

Human remains representing, at minimum, one individual were removed from Wasco County, OR/Klickitat County, WA. The human remains were removed from Memaloose Island and donated to the High Desert Museum at an unknown date. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, High Desert Museum has determined that:

• The human remains described in this notice represent the physical remains of two individuals of Native American ancestry.

• The one lot of multiple objects described in this notice is reasonably believed to have been placed with or near individual human remains at the time of death or later as part of the death rite or ceremony.

• There is a relationship of shared group identity that can be reasonably traced between the human remains and the associated funerary object described in this notice and the Confederated Tribes and Bands of the Yakama Nation; Confederated Tribes of the Umatilla Indian Reservation; Confederated Tribes of the Warm Springs Reservation of Oregon; and the Nez Perce Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 7, 2023. If competing requests for repatriation are received, High Desert Museum must determine the most appropriate requestor prior to repatriation. Requests for joint repatriation of the human remains and associated funerary objects are considered a single request and not competing requests. High Desert Museum is responsible for sending a copy of this notice to the Indian Tribes identified in this notice.

Authority: Native American Graves Protection and Repatriation Act, 25 U.S.C. 3003, and the implementing regulations, 43 CFR 10.9, 10.10, and 10.14.

Dated: June 28, 2023.
Melanie O'Brien,
Manager, National NAGPRA Program.

[FR Doc. 2023-14379 Filed 7-6-23; 8:45 am]

BILLING CODE 4312-52-P